DEPARTMENT OF HEALTH AND HUMAN SERVICES

Health Resources and Services Administration

Fiscal Year 2003 Application Cycle for the Nursing Scholarship Program 93.908

AGENCY: Health Resources and Services Administration, HHS.

ACTION: Notice.

SUMMARY: The Health Resources and Services Administration (HRSA) announces that applications will be accepted for the Nursing Scholarship Program for Fiscal Year 2003.

Authorizing Legislation: These applications are solicited under section 846(d) of the Public Health Service (PHS) Act, as amended by Pub. L. 107-205.

Purpose of Award: The Nursing Scholarship Program (NSP) provides scholarships to individuals for attendance at schools of nursing. In exchange, the scholarship recipients agree to serve for a period of not less than 2 years at a health care facility with a critical shortage of nurses.

Eligible Applicants: An “eligible applicant” is a U.S. citizen or national who is enrolled or accepted for enrollment in a professional program as a full-time or part-time student in an accredited school of nursing.

A “school of nursing” is a collegiate, associate degree or diploma school of nursing in a State.

Statutory Matching or Cost Sharing Requirement: None.

Funding Preferences: Section 846(e) of the PHS Act provides that a funding preference shall be given to qualified applicants with the greatest financial need. To evaluate financial need, the HRSA will use the Department of Education's Expected Family Contribution (EFC) determination. The EFC measures a student's family's financial strength and is used to determine eligibility for federal student aid.

The following funding preferences will apply in Fiscal Year 2003:

(a) First funding preference will be given to qualified applicants who have a zero EFC, have agreed to complete their nursing program as a full-time student, and are enrolled or accepted for enrollment in an undergraduate nursing program;

(b) Second funding preference will be given to the remaining qualified applicants who have a zero EFC;

(c) Third, qualified applicants who have an EFC that exceeds zero will be grouped according to their EFC in increments of $500 from highest to lowest need (i.e., applicants with EFC of $1-$500, applicants with EFC of $501-$1,000, etc.), and these groups will be funded, to the extent monies remain available, in order of decreasing need. Within each group, applicants who have agreed to complete their nursing program as a full-time student and are enrolled or accepted for enrollment in an undergraduate nursing program will be funded first, then the remaining qualified applicants within that group will be funded.

If there are insufficient funds to award a contract to all qualified applicants who meet a given funding preference, applicants will be randomly selected within that preference level until all funds are expended.

Estimated Amount of Available Funds: $3,800,000.

Estimated Number of Awards: 76.

Service Requirement: In exchange for an NSP scholarship, a participant agrees to provide full-time clinical service for not less than 2 years at a health care facility with a critical shortage of nurses. Under certain circumstances, an individual may complete his or her service obligation on a part-time basis.

Pursuant to section 801(11) of the PHS Act, a “health care facility” includes the following: (A) An Indian Health Service Health Center, (B) a Native Hawaiian Health Center, (C) a Hospital, (D) a Federally Qualified Health Center, (E) a Rural Health Clinic, (F) a Nursing Home, (G) a Home Health Agency, (H) a Hospice Program, (I) a State or Local Public Health Department including a Public Health Clinic within these Departments, (J) a Skilled Nursing Facility and (K) an Ambulatory Surgical Center. Each year, HRSA will determine which health care facilities with a critical shortage of nurses have the highest need. NSP participants will only be allowed to fulfill their service obligation at those health care facilities with a critical shortage of nurses which have been identified by the HRSA as having the highest priority need.

Application Request and Award Process: Application materials are expected to be available on May 16, 2003. Individuals may only request additional application information by calling 1-866-867-6856. In order to be considered for this scholarship, completed applications must be received, or postmarked, on or before, June 30, 2003. Applications received and postmarked after the deadline will not be considered. Awards will be made no later than September 30, 2003.

FOR FURTHER INFORMATION CONTACT: CAPT. Bruce Baggett, Division of National Health Service Corps, Bureau of Health Professions, HRSA, Room 8A-55, Parklawn Building, 5600 Fishers Lane, Rockville, Maryland 20857. Central telephone is 1-800-435-6464; e-mail bbaggett@hrsa.gov; Fax number is (301) 594-4981.

Paperwork Reduction Act: The application for the NSP has been approved by the Office of Management and Budget (OMB) under the Paperwork Reduction Act. The OMB clearance number is 0915-0146.

The program is not subject to the provisions of Executive Order 12372, Intergovernmental Review of Federal Programs (as implemented through 45 CFR Part 100). This program is also not subject to the Public Health Systems Reporting Requirements.

Dated: April 16, 2003.
Elizabeth M. Duke,
Administrator.

[FR Doc. 03-11078 Filed 5-5-03; 8:45 am]

BILLING CODE 4165-15-P